DEPARTMENT OF JUSTICE

Notice of Lodging of Consent Decree Under the Comprehensive Environmental Response, Compensation, and Liability Act of 1980 (“CERCLA”)

Consistent with Section 122(d) of the Comprehensive Environmental Response, Compensation, and Liability Act of 1980, as amended (“CERCLA”), 42 U.S.C. 9622(d), and 28 CFR 50.7, notice is hereby given that on December 21, 2006, a proposed Partial Consent Decree with Flowserve Corporation in United States v. Ferguson Harbour Service Inc. et al., No. 3:03-CV-1266 (S.D. Miss.), was lodged with the United States District Court for the Southern District of Mississippi.

In this action, the United States seeks to recover from various defendants, pursuant to Section 107 of CERCLA, 42 U.S.C. 9607, the costs incurred and to be incurred by the United States in responding to the release and/or threatened release of hazardous substances at and from the Industrial Pollution Control Site in Jackson, Hinds County, Mississippi. Under the proposed Consent Decree, Defendant Flowserve Corporation will pay $50,000 to the Hazardous Substances Superfund in reimbursement of the costs incurred by the United States at the Site.

The Department of Justice will receive for a period of thirty (30) days from the date of this publication comments relating to the Partial Consent Decree. Comments should be addressed to the Assistant Attorney General, Environment and Natural Resources Division, and either e-mailed to pubcomment-ees.enrd@usdoj.gov or mailed to P.O. Box 7611, U.S. Department of Justice, Washington, DC 20044-7611, and should refer to United States v. Ferguson Harbour Service Inc. et al. (Consent Decree with Flowserve Corporation, DOJ Ref. No. 90-11-3-06625/5).

The Consent Decree may be examined at U.S. EPA Region 4, Atlanta Federal Center, 61 Forsyth Street, SW., Atlanta, Georgia 30303 (contact Matthew Hicks, Esq. (404) 562-9670). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. Ferguson Harbour Service Inc. et al. (Consent Decree with Flowserve Corporation, DOJ Ref. No. 90-11-3-06625/5), and enclose a check in the amount of $5.25 (25 cents per page reproduction cost) payable to the U.S. Treasury or, if by e-mail or fax, forward a check in that amount to the Consent Decree Library at the stated address.

Henry S. Friedman,
Assistant Section Chief, Environmental Enforcement Section, Environment and Natural Resources Division.

[FR Doc. 06-9998 Filed 1-5-07; 8:45 am]

BILLING CODE 4410-15-M